DEPARTMENT OF ENERGY

Federal Energy Regulatory Commission

Combined Notice of Filings #1

Take notice that the Commission received the following electric rate filings:

Docket Numbers: ER10-2474-004; ER10-2475-004.

Applicants: Sierra Pacific Power Company, Nevada Power Company.

Description: Amendment to July 1, 2013 Updated Market Power Analysis for the Northwest Region of Sierra Pacific Power Company, et al.

Filed Date: 10/31/13.

Accession Number: 20131031-5227.

Comments Due: 5 p.m. ET 11/21/13.

Docket Numbers: ER10-2474-005; ER10-2475-005.

Applicants: Sierra Pacific Power Company, Nevada Power Company.

Description: Notice of Change in Status of Sierra Pacific Power Company, et al.

Filed Date: 11/4/13.

Accession Number: 20131104-5166.

Comments Due: 5 p.m. ET 11/25/13.

Docket Numbers: ER14-299-001.

Applicants: Midcontinent Independent System Operator, Inc.

Description: 11-4-2013 SA 2398 G746 Amended Termination to be effective 12/21/2011.

Filed Date: 11/4/13.

Accession Number: 20131104-5123.

Comments Due: 5 p.m. ET 11/25/13.

Docket Numbers: ER14-308-000.

Applicants: New York Independent System Operator, Inc.

Description: NYISO 205 filing tariff revision re: Prohibited Investment to be effective 1/3/2014.

Filed Date: 11/4/13.

Accession Number: 20131104-5109.

Comments Due: 5 p.m. ET 11/25/13.

Docket Numbers: ER14-309-000.

Applicants: New York Independent System Operator, Inc.

Description: Revisions to the ISO Agreement regarding Prohibited Investments to be effective 1/3/2014.

Filed Date: 11/4/13.

Accession Number: 20131104-5120.

Comments Due: 5 p.m. ET 11/25/13.

Docket Numbers: ER14-310-000.

Applicants: Avista Corporation.

Description: Avista Corporation submits Avista Corp OATT Order No. 764 Compliance Filing to be effective 11/12/2013.

Filed Date: 11/4/13.

Accession Number: 20131105-5000.

Comments Due: 5 p.m. ET 11/25/13.

Docket Numbers: ER14-311-000.

Applicants: National Grid USA, Massachusetts Electric Company, The Narragansett Electric Company.

Description: National Grid USA, Massachusetts Electric Company, and The Narragansett Electric Company's Petition for Limited Waiver.

Filed Date: 11/4/13.

Accession Number: 20131104-5152.

Comments Due: 5 p.m. ET 11/25/13.

Docket Numbers: ER14-312-000.

Applicants: The Connecticut Light and Power Company.

Description: The Connecticut Light and Power Company submit Cancellation of CMEEC LCRA with CMEEC to be effective 1/1/2014.

Filed Date: 11/5/13.

Accession Number: 20131105-5031.

Comments Due: 5 p.m. ET 11/26/13.

Docket Numbers: ER14-313-000.

Applicants: Public Service Company of New Hampshire.

Description: Public Service Company of New Hampshire submits Cancellation of LCRA with CMEEC to be effective 1/1/2014.

Filed Date: 11/5/13.

Accession Number: 20131105-5037.

Comments Due: 5 p.m. ET 11/26/13.

Docket Numbers: ER14-314-000.

Applicants: Tampa Electric Company.

Description: Tampa Electric Company submits Emergency Interchange Service Schedule A&B—2013 Revised (Bundled) to be effective 5/1/2013.

Filed Date: 11/5/13.

Accession Number: 20131105-5039.

Comments Due: 5 p.m. ET 11/26/13.

Docket Numbers: ER14-315-000.

Applicants: Western Massachusetts Electric Company.

Description: Western Massachusetts Electric Company submits Cancellation of LCRA with CMEEC to be effective 1/1/2014.

Filed Date: 11/5/13.

Accession Number: 20131105-5040.

Comments Due: 5 p.m. ET 11/26/13.

Docket Numbers: ER14-316-000

Applicants: Tampa Electric Company.

Description: Tampa Electric Company submits Emergency Interchange Service Contract w_Southern Company—2013 Rev (Unbundled) to be effective 5/1/2013.

Filed Date: 11/5/13.

Accession Number: 20131105-5041.

Comments Due: 5 p.m. ET 11/26/13.

Docket Numbers: ER14-317-000.

Applicants: Tampa Electric Company.

Description: Tampa Electric Company submits QF Transmission Agreement with Auburndale Pwr Partners—2013 Revised to be effective 5/1/2013.

Filed Date: 11/5/13.

Accession Number: 20131105-5042.

Comments Due: 5 p.m. ET 11/26/13.

Docket Numbers: ER14-318-000.

Applicants: The Connecticut Light and Power Company.

Description: The Connecticut Light and Power Company submits LCRA with CTMEEC to be effective 1/1/2014.

Filed Date: 11/5/13.

Accession Number: 20131105-5043.

Comments Due: 5 p.m. ET 11/26/13.

Docket Numbers: ER14-319-000.

Applicants: Public Service Company of New Hampshire.

Description: Public Service Company of New Hampshire submits Localized Cost Responsibility Agreement with CTMEEC to be effective 1/1/2014.

Filed Date: 11/5/13.

Accession Number: 20131105-5059.

Comments Due: 5 p.m. ET 11/26/13.

Docket Numbers: ER14-320-000.

Applicants: Western Massachusetts Electric Company.

Description: Western Massachusetts Electric Company submits Localized Cost Responsibility Agreement with CTMEEC to be effective 1/1/2014.

Filed Date: 11/5/13.

Accession Number: 20131105-5061.

Comments Due: 5 p.m. ET 11/26/13.

Docket Numbers: ER14-321-000.

Applicants: The Connecticut Light and Power Company.

Description: The Connecticut Light and Power Company submits Localized Cost Responsibility Agreement with Town of Wallingford to be effective 1/1/2014.

Filed Date: 11/5/13.

Accession Number: 20131105-5067.

Comments Due: 5 p.m. ET 11/26/13.

Docket Numbers: ER14-322-000.

Applicants: Public Service Company of New Hampshire.

Description: Public Service Company of New Hampshire submits Localized Cost Responsibility Agreement with Town of Wallingford to be effective 1/1/2014.

Filed Date: 11/5/13.

Accession Number: 20131105-5074.

Comments Due: 5 p.m. ET 11/26/13.

Docket Numbers: ER14-323-000.

Applicants: Deseret Generation & Transmission Co-operative, Inc.

Description: Deseret Generation & Transmission Co-operative, Inc. submits OATT Order No. 764 Compliance Filing to be effective 11/12/2013.

Filed Date: 11/5/13.

Accession Number: 20131105-5078.

Comments Due: 5 p.m. ET 11/26/13.

Docket Numbers: ER14-324-000.

Applicants: Western Massachusetts Electric Company.

Description: Western Massachusetts Electric Company submits Localized cost responsibility agreement between Town of Wallingford and WMECO to be effective 1/1/2014.

Filed Date: 11/5/13.

Accession Number: 20131105-5079.

Comments Due: 5 p.m. ET 11/26/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 5, 2013.
Nathaniel J. Davis, Sr.,
Deputy Secretary.

[FR Doc. 2013-27163 Filed 11-13-13; 8:45 am]

BILLING CODE 6717-01-P